DEPARTMENT OF AGRICULTURE

Food and Nutrition Service

Agency Information Collection Activities: Proposed Collection; Comment Request—School Breakfast Program

AGENCY: Food and Nutrition Service, USDA.

ACTION: Notice.

SUMMARY: In accordance with the Paperwork Reduction Act of 1995, the Food and Nutrition Service requests public comment on the information collections related to the School Breakfast Program, OMB number 0584-0012.

DATES: To be assured of consideration, comments must be received by May 28, 2004.

ADDRESSES: Comments and requests for copies of this information collection may be sent to Mr. Terry Hallberg, Chief, Program Analysis and Monitoring Branch, Child Nutrition Division, Food and Nutrition Service, USDA, 3101 Park Center Drive, Room 640, Alexandria, Virginia 22302.

Comments are invited on: (a) Whether the proposed collection of information is necessary for the proper performance of the functions of the agency, including whether the information will have practical utility; (b) the accuracy of the agency's estimate of the burden of the proposed collection of information, including the validity of the methodology and assumptions used; (c) ways to enhance the quality, utility and clarity of the information to be collected; and (d) ways to minimize the burden of collection of information on those who are to respond, including through the use of appropriate automated, electronic, mechanical or other technological collection techniques or other forms of information technology.

All responses to this Notice will be summarized and included in the request for OMB approval, and will become a matter of public record.

FOR FURTHER INFORMATION CONTACT: Mr. Terry Hallberg, at (703) 305-2590.

SUPPLEMENTARY INFORMATION: Title: 7 CFR part 220, School Breakfast Program.

OMB Number: 0584-0012.

Expiration Date: May 31, 2004.

Type of Request: Revision of a currently approved collection.

Abstract: Section 4 of the Child Nutrition Act of 1966 (CNA) (42 U.S.C. 1773), authorizes the School Breakfast Program. The School Breakfast Program is a nutrition assistance program whose benefit is a breakfast meeting nutritional requirements prescribed by the Department in accordance with section 4(e) of the CNA. That provision requires that “Breakfasts served by schools participating in the school breakfast program under this section shall consist of a combination of foods and shall meet minimum nutritional requirements prescribed by the Secretary on the basis of tested nutritional research.”

No new reporting and recordkeeping burdens are requested under this information collection. However, numbers of the reporting and recordkeeping burdens are reduced due to the number of State agencies administering the program dropping from 58 to 57.

The purpose of this Notice is to allow the public 60 days to comment on all reporting and recordkeeping burdens as indicated under the Estimated Total Annual Burden on Respondents below. The information being requested is required to administer and operate this program in accordance with the CNA. The program is administered at the state and school food authority levels, and the operations include the submission and approval of applications, execution of agreements, submission of claims, payment of claims, monitoring and providing technical assistance. All of the reporting and recordkeeping requirements associated with the School Breakfast Program are currently approved by the Office of Management and Budget and are in force.

Estimated Number of Respondents: 57 States agencies, 10,108 school food authorities and 72,145 schools. Total: 82,747.

Reporting:

Total Annual Responses: 1,278,095.

Total Annual Burden: 221,530.

Average Time per Response: .173 hour.

Recordkeeping:

Total Annual Responses: 27,478,837.

Total Annual Burden: 4,672,908.

Average Time per Response: .17 hour.

Estimated Total Annual Burden:

Reporting Burden: 221,530.

Recordkeeping burden: 4,672,908.

Total annual burden hours: 4,894,438.

Dated: March 22, 2004.
Roberto Salazar,
Administrator, Food and Nutrition.

[FR Doc. 04-6916 Filed 3-26-04; 8:45 am]

BILLING CODE 3410-30-P